DEPARTMENT OF ENERGY

Federal Energy Regulatory Commission

18 CFR Parts 141 and 385

[Docket No. RM19-12-000]

Revisions to the Filing Process for Commission Forms

AGENCY: Federal Energy Regulatory Commission, DOE.

ACTION: Notice of proposed rulemaking.

SUMMARY: The Commission is proposing to transition from the current use of the Visual FoxPro software, which is no longer supported by its developer, to a type of Extensible Markup Language (XML) called eXtensible Business Reporting Language (XBRL). The XBRL standard would be used to file the Commission's Form Nos. 1, 1-F, 2, 2-A, 3-Q electric, 3-Q natural gas, 6, 6-Q, 60, and 714. The use of XBRL should make the information in these forms easier for filers and data users to analyze and assist in automating regulatory filings and business information processing. In addition, the Commission believes that transitioning from the current Visual FoxPro system to XBRL will decrease the costs, over time, of preparing the necessary data for submission and complying with future changes to filing requirements set forth by the Commission. The Commission is also proposing to revise its regulations to require filers of Form No. 1-F to file their report in electronic media.

DATES: Comments are due March 6, 2019.

ADDRESSES: Comments, identified by docket number, may be filed electronically at http://www.ferc.gov in acceptable native applications and print-to-PDF, but not in scanned or picture format. For those unable to file electronically, comments may be filed by mail or hand-delivery to: Federal Energy Regulatory Commission, Secretary of the Commission, 888 First Street NE, Washington, DC 20426. The Comment Procedures Section of this document contains more detailed filing procedures.

FOR FURTHER INFORMATION CONTACT:

Robert Hudson (Technical Information), Office of Enforcement, Federal Energy Regulatory Commission, 888 First Street NE, Washington, DC 20426, (202) 502-6620, Robert.Hudson@ferc.gov.

Michael Chase (Legal Information), Office of General Counsel, Federal Energy Regulatory Commission, 888 First Street NE, Washington, DC 20426, (202) 502-6205, Michael.Chase@ferc.gov.

SUPPLEMENTARY INFORMATION:

Table of Contents

| Paragraph
I. Background | 1.
II. Discussion | 4.
A. Proposed Adoption of XBRL | 4.
B. Proposed Process for Developing the XBRL Based Solution | 19.
C. Regulatory Text Revisions | 22.
III. Information Collection Statement | 23.
IV. Environmental Analysis | 33.
V. Regulatory Flexibility Act | 34.
VI. Comment Procedures | 38.
VII. Document Availability | 42.

I. Background

1. Under the Commission's regulations, certain entities are required to report information to the Commission by filing one or more forms.¹ Currently, these entities use a Commission-distributed software application called Visual FoxPro. Each entity is required to gather its relevant financial and other data and enter the data into Visual FoxPro, which the entity maintains on its own computer system. The entity then uses the Visual FoxPro software to transmit the information to the Commission. However, Microsoft Corporation, the developer of Visual FoxPro, no longer supports this product.²

¹ See 18 CFR 141.1 (requiring annual filing of FERC Form No. 1, Annual report of Major electric utilities, licensees and others); 18 CFR 141.2 (2018) (requiring annual filing of FERC Form No. 1-F, Annual report for Nonmajor public utilities and licensees); 18 CFR 260.1 (requiring annual filing of FERC Form No. 2, Annual report for Major natural gas companies); 18 CFR 260.2 (requiring annual filing of FERC Form No. 2-A, Annual report for Nonmajor natural gas companies); 18 CFR 141.400 and 18 CFR 260.300 (requiring quarterly filing of FERC Form No. 3-Q, Quarterly financial report of electric utilities, licensees, and natural gas companies); 18 CFR 357.2 (requiring annual filing of FERC Form No. 6, Annual Report of Oil Pipeline Companies); 18 CFR 357.4 (2018) (requiring quarterly filing of FERC Form No. 6-Q, Quarterly report of oil pipeline companies); 18 CFR 141.51 (requiring annual filing of FERC Form No. 714, Annual Electric Balancing Authority Area and Planning Area Report); and 18 CFR 366.23 and 18 CFR 369.1 (requiring annual filing of FERC Form No. 60, Annual reports of centralized service companies).

² The Commission has used Visual FoxPro, a Microsoft Windows-based programming language, since 1997.

2. Recognizing that Microsoft Corporation no longer supports Visual FoxPro, on April 25, 2015, the Commission issued an order announcing its intention to replace the current Visual FoxPro filing format for Form Nos. 1, 1-F, 2, 2-A, 3-Q electric, 3-Q natural gas, 6, 6-Q, 60, and 714 (collectively, the VFP Forms) with an XML-based filing format.³ The Commission stated that XML is the current industry standard for submission of electronic data, such as that captured in its forms, and that the XML data format has significant advantages over other approaches because it is non-proprietary, and would establish a single standard for nearly all Commission forms while also providing consistency with the Commission's current electronic tariff (eTariff) filings and the Electric Quarterly Report (EQR) systems.⁴ The XML format facilitates the sharing of data across different information systems, particularly via the internet, by structuring the data using tags to identify particular data elements.

³ Electronic Filing Protocols for Commission Forms, 151 FERC ¶ 61,025 (2015) (April 2015 Order).

⁴ Id. P 5.

3. The Commission noted that the North American Energy Standards Board (NAESB) ⁵ had helped facilitate meetings to develop the Commission's eTariff system, and the Commission directed Commission staff to seek NAESB's assistance in the process of developing standards for the submission of the VFP Forms to the Commission in the new XML format.⁶ NAESB facilitated 18 meetings during which the transition of the forms was discussed. Commission staff also discussed the filing of financial forms with other federal agencies.

⁵ NAESB serves as a forum for the development and promotion of standards for wholesale and retail natural gas and electric industries. In response to the Commission's request on this matter, NAESB performed specific outreach to the oil pipeline industry to include participation from that sector.

⁶ April 2015 Order, 151 FERC ¶ 61,025 at P 10.

II. Discussion

A. Proposed Adoption of XBRL

4. Based on these discussions, while we continue to find that XML is the most suitable format for filing Commission forms, we think a standard built on XML called eXtensible Business Reporting Language (XBRL) would be a superior method for both the Commission and filing entities to use. XBRL was developed specifically for reporting financial data and is used widely for reporting business and financial information.

5. The energy industry currently uses XML format to submit other filings and reports to the Commission, including eTariff and EQR.⁷ In the April 2015 Order, the Commission noted that XML is commonly used to submit electronic data, and the Commission explained the features of XML that give it significant advantages over other approaches. In the April 2015 Order, the Commission also noted that other potential means of communicating electronic data, such as uploading a file formatted in comma-separated value (CSV) or using web-based forms either alone, or in combination, are less flexible and efficient than XML file uploads, and would be more expensive and time-consuming to develop and maintain.⁸ Among other things, the Commission noted that CSV uploads are difficult to error check, would require conversion that has the potential to create data errors, and will not easily accommodate the large and complex footnotes that often accompany financial data.

⁷ The Commission has required filers to submit in XML for eTariff and provides an XML option for filing EQRs.

⁸ April 2015 Order, 151 FERC ¶ 61,025 at P 8.

6. In the April 2015 Order, the Commission determined that, rather than filers having to input their data into a proprietary database application, the XML format would permit filers to develop, or obtain from third-party vendors, a system for collecting form information that is best suited to their own internal systems.⁹ This approach would enable filers to maintain their own information and data in the formats that they prefer and then repackage that material for submission to the Commission at the appropriate time. Using the XML format similarly would reduce costs for the Commission to process the information. Adopting the XML format also would eliminate the need for the Commission to provide software to filers. This approach allows for the independent design and implementation of future filing requirements rather than dependence on a vendor's continued development and support of their proprietary software.

⁹ Id. P 6.

7. There are two options available to an organization that chooses XML as the format for data submission. One option is to develop a customized XML system that meets the business reporting needs of an organization, the result of which is generally proprietary and unique to the organization and data collection. The Commission currently uses customized XML solutions for certain of its data collections, such as eTariff and EQR. The other option is to use a standard built upon the XML format, such as XBRL.¹⁰ As explained in more detail below, the Commission believes that the use of the XBRL standard for certain forms offers significant advantages over the use of customized XML.

¹⁰ XBRL International, Inc. (XBRL International), the global non-profit organization that develops and maintains the XBRL standard and related specifications, states that the standard is used by over 100 regulators, including the Department of Energy (DOE), Securities and Exchange Commission (SEC), and Federal Deposit Insurance Corporation, more than 10 million companies, is accepted in over 60 countries, and supported by more than 200 software packages.

8. The XBRL standard provides features tailored to submission of business data and builds upon the advantages of the XML format set forth in the April 2015 Order.¹¹ The XBRL standard includes all the advantages of the XML format, such as its non-proprietary nature, its efficient sharing of data across different information systems, and its ability to include identified proprietary formats (e.g., PDF, Microsoft Word, etc.). The XBRL standard has clearly defined mechanisms to handle important aspects of business data that add to these benefits by structuring the data with tags that utilize standard taxonomies in order to capture not only the value of the data, but also the inherent characteristics of the information.

¹¹ April 2015 Order, 151 FERC ¶ 61,025 at P 5.

9. As an international standard for digital reporting, XBRL enables the reporting of comprehensive, consistent, interoperable data that allows industry and other data users to automate submission, extraction, and analysis. XBRL is a language in which reporting terms can be authoritatively defined. Those terms can then be used to uniquely represent the contents of the Commission's data collections. XBRL is currently required for filing forms by a number of other federal agencies.¹²

¹² For example, the SEC requires the use of XBRL for filing 10-Q and 10-K forms, the DOE has launched an initiative through its Solar Energy Technologies Office to set data standards for the solar industry using XBRL, and members of the Federal Financial Institutions Examination Council require the forms collectively referred to as the Call Report to be filed in XBRL.

10. XBRL provides an efficient way to exchange information inherent to the XML format and applies a standard way to capture the characteristics of that information. This is made possible through a number of interrelated technical specifications ¹³ developed and published by XBRL International, collectively referred to as the XBRL Specification. XBRL provides a way to define unambiguous, reusable definitions; report individual facts against those definitions; and, where necessary (and permitted), extend those definitions to take account of unique reporting ideas or aggregations. XBRL also allows filers to test the resulting report against the constraints set out in the definitions, file or publish the finished report, and process entire reports or individual data points in a platform-independent, vendor-neutral way. XBRL is supported by a large number of common off-the-shelf software packages and by a large number of service providers. All of these features, and the specific advantages discussed below, enhance interoperability with systems currently in use by many industries and governments. Furthermore, the open XBRL specifications are freely licensed to anyone seeking to use the standard.

¹³ A specification is a set of documented requirements to be satisfied by a material, design, product, or service.

11. Another advantage of using XBRL is that, in addition to collecting information (numbers and text), the XBRL International Units Registry (Registry) provides clear definitions and a standardized mechanism to record characteristics of information.¹⁴ For example, XBRL requires that the time period be selected from the Registry and recorded in the same way by every reporting entity. In a customized XML collection, time period and other common characteristics are defined by the designer of the data collection system, and separate collection systems likely use different definitions. Moreover, when financial data collection systems are built on XML, CSV, or some other format, the method used to define units such as currencies, periods of time, the entity the data relates to, and disaggregation of data is recreated every time. This means data cannot be easily compared without manual reconciliation. The XBRL standard enables each number's context to be captured in a way that communicates definition, time period, units, and name of reporting entity consistently.

¹⁴ XBRL version 2.1 requires that all numeric facts be associated with a unit. The Registry provides a centralized list of units that promotes the consistent use of units across preparers and jurisdictions. The Registry is available at: http://www.xbrl.org/utr/utr.xml.

12. An additional advantage of the XBRL standard is that it defines relationships between elements separately from the element itself. This makes it possible to express multiple relationships and hierarchies among many elements. Unlike XBRL, XML specifies the relationship as part of the definition of an element. While it is possible to express multiple relationships in customized XML, developers must create custom code in order to do so. XBRL also allows the fields in a hierarchical relationship to share the same properties because the taxonomy allows relationships between concepts to be defined separately. For example, consider a balance sheet item such as Cash. The taxonomy would include the definition of Cash and would also demonstrate how Cash may relate to other balance sheet items (within the taxonomy) such as rolling up to Current Assets and eventually Total Assets. All three of these items (Cash, Current Assets, and Total Assets) are interrelated financial concepts that are defined and presented in the taxonomy as elements.

13. Furthermore, XBRL standardizes many unique characteristics of business reporting data, such as units, time period, entity identification, decimal places, and data labels, and allows the database designer to define its own custom characteristics for additional business reporting data. XBRL uses tags to apply these characteristics to the data, such as “current” for period, “transmission” for entity identification, “dollars” for units, and “thousands” for decimal places. This means that XBRL would define a simple term like “Assets” with a combination of defined tags for each characteristic, offering dimensionality. By contrast, customized XML, without custom code to address dimensionality, would likely have unique fields for every combination of characteristics, resulting in numerous fields with long descriptive names, such as “Current_Assets_Transmission_Dollars_Thousands” or “PreviousYear_Assets_Transmission_Dollars_Thousands” and no standardization across elements within the forms.

14. The XBRL standard also offers greater flexibility than a customized XML format as it results in the creation of a “taxonomy,” whereas customized XML solutions result in wholly custom, permanent documents, and code. Taxonomies are files containing relevant business terminology, their meanings, their data types, relationships among terms, and the rules or formulas they must follow. Taxonomies are not permanent documents, but rather are code that describes elements that can be used in other programs and software. Thus, unlike a customized XML solution, XBRL would operationalize with a taxonomy all information needed to create a form submission into publicly available code that can be used in many applications, and can be reused in other collections, saving time in developing those collections.

15. XBRL would also facilitate the implementation of changes to the reporting requirements. Any change to reporting requirements in a customized XML solution requires costly upgrades to the applications used by filers, organizations that extract and analyze data, and software providers that make the tools to create and use the data. Unlike customized XML solutions, XBRL-based solutions enable future changes, such as adding, amending, and deleting defined elements and relationships, without the need for costly development procedures. The Commission would also benefit from the advantages XBRL systems provide in terms of administering the various VFP Form data collections. Specifically, XBRL would allow more substantive changes to the taxonomy as a result of Commission directives, as well as enabling the Commission to make minor technical changes to maintain and revise the taxonomy, without costly development procedures.

16. Implementing an XBRL-based solution would lead to greater data quality through easier validation checks. XBRL taxonomies support simple formulas such as addition and subtraction and allow more complex formulas to be defined with a set of guidelines. In the Commission's current XML-based collection systems, such as the EQR system, filers may check their files prior to making their submission through a test submission feature on the Commission's website. This process requires a filer to submit their data into the test submission feature to receive an email detailing errors in their file. XBRL taxonomies contain validations that can be used to check a submission by filers on their own system without uploading anything to the Commission. This enables filers to confirm that their VFP Form submission is error-free prior to submission, thereby saving time and reducing burden on the filers. Furthermore, the taxonomy will contain instructions on how the Commission's system will convert the submission to a human-readable form. These instructions can be used to create the same human-readable form on the filer's computer prior to submission. Under the VFP system, filers have been able to view their submission in a human-readable format only after it has been filed.

17. Another advantage of a collection designed using the XBRL standard is that it simultaneously supports all previous taxonomies published for that form. Occasionally, a filer may be required to refile a form using a version of the form that is not current. With a customized XML approach, all filings must conform to the current version of the schema for the system to accept the submission. As a result, if the form changes substantively between the original submission and the subsequent refiling, the filer or the Commission must make certain technological adjustments to enable the submission of the refiling. By contrast, with the XBRL submission method, a refiling can be submitted using any prior version of the taxonomy at any time. This is possible because the structure of the XBRL submission file will be the same, and the validations are tied to each version of the taxonomy. Once the submission is accepted, it can then be compared with the prior filing for the same period to determine what has changed. Most XBRL software products allow filers to select a taxonomy version each time they create their submission to file.

18. Finally, the proposed XBRL-based FERC Form Nos. 1, 1-F, and 3-Q electric will incorporate energy storage-related data which the Commission required be submitted under Order No. 784.¹⁵ Currently, utilities with energy storage assets and those that acquire the assets report using existing schedules and footnotes not intended for energy storage assets pending the availability of new and revised schedules.¹⁶ The proposed XBRL-based forms will allow utilities to submit this data directly into the forms.

¹⁵ See Third-Party Provision of Ancillary Services; Accounting and Financial Reporting for New Electric Storage Technologies, Order No. 784, FERC Stats. & Regs. ¶ 31,349 (2013) (crossed-referenced at 144 FERC ¶ 61,056).

¹⁶ See Accounting and Reporting Guidance for New Electric Storage Technologies, Docket No. AI14-I-000 (February 20, 2014).

B. Proposed Process for Developing the XBRL Based Solution

19. Parties should submit comments on the proposed adoption of the XBRL standard in lieu of a customized XML solution. Should the Commission adopt XBRL in the Final Rule in this proceeding, the Commission plans to convene staff-led technical conference(s), in consultation with NAESB. The technical conference(s) would enable interested industry members to discuss and propose revisions to the draft taxonomy that the Commission plans to release following the issuance of the Final Rule, along with other important components of the XBRL system.

20. The Commission also proposes that its initial launch of the XBRL system will include Commission incorporation of the prior three years of VFP Form data from the current VFP system. Providing access to the prior three years of form data in XBRL will allow form filers to correct previously filed data through refilings, when necessary, consistent with the Commission's informal policy concerning refilings of EQRs.¹⁷ The Commission seeks comment on the time period of historical VFP Form data that should be converted by the Commission to the new XBRL system upon launch of the new XBRL system. After implementation of the XBRL system, the Commission anticipates ultimately transferring approximately 10 years of historical VFP Form data over to the XBRL system.

¹⁷ The Commission's informal policy directs filers to correct the most recent 12 EQRs, or three years of data, with a note placed in the EQR stating that other reports may also contain the error. See Plan for Retrospective Analysis of Existing Rules, Docket No. AD12-6-000 (2011), https://www.ferc.gov/legal/maj-ord-reg/retro-analysis/ferc-eo-13579.pdf.

21. Although we do not envision that the Commission will need to make frequent changes to the taxonomy and related code, the Secretary of the Commission, under Order No. 703, has delegated authority to make such modifications when necessary.¹⁸ Before the Commission implements any such changes, notice of the proposed change will be provided sufficiently in advance to notify companies and provide them time to comply with the changes to the taxonomy and related code.

¹⁸ 18 CFR 375.302(z).

C. Regulatory Text Revisions

22. With the exception of Form No. 1-F, current regulations already provide for the filing of Form Nos. 1, 2, 2-A, 3-Q electric, 3-Q natural gas, 6, 6-Q, 60, and 714 in electronic format according to the instructions for each form and filing. The Commission therefore sees no need for further regulatory text changes pertaining to these forms. Upon completion of the technical conference process, however, the Commission would issue an order revising the format instructions for the forms to accord with the results of the technical conferences. These instructions would cover only the format for making the electronic filings and will not include any revisions to the substance of the required filings, which the Commission will make when necessary in appropriate separate proceedings. The Commission is also proposing to require Form No. 1-F filers to submit Form No. 1-F in electronic format rather than filing an original and copies of the form on paper, as is currently required. The Commission therefore proposes to revise § 141.2(b)(1)(i) of the Commission's regulations ¹⁹ and Rule 2011 of its Rules of Practice and Procedure ²⁰ to require Form No. 1-F filers to submit their reports using electronic media as prescribed in Rule 2011.

¹⁹ 18 CFR 141.2(b)(1)(i).

²⁰ 18 CFR 385.2011.

III. Information Collection Statement

23. The Paperwork Reduction Act (PRA) ²¹ requires each federal agency to seek and obtain Office of Management and Budget (OMB) approval before undertaking a collection of information directed to ten or more persons or contained in a rule of general applicability. OMB's regulations require approval of certain information collection requirements imposed by agency rules.²² Upon approval of a collection of information, OMB will assign an OMB control number and an expiration date. Respondents subject to the filing requirements of an agency rule will not be penalized for failing to respond to these collections of information unless the of information display a valid OMB control number.

²¹ 44 U.S.C. 3507(d).

²² 5 CFR 1320.11.

24. The revisions proposed in this NOPR would update the filing process for regulated entities required to file the VFP Forms. The information collected in the VFP Forms is required to be submitted annually or quarterly to the Commission under existing regulations and reporting requirements adopted under the Federal Power Act (FPA), the Natural Gas Act (NGA), the Interstate Commerce Act (ICA), and the Public Utility Holding Company Act of 2005 (PUHCA 2005). The VFP Forms would continue to be submitted to the Commission under existing regulations and reporting requirements. The proposed new and amended regulations and reporting requirements, if adopted, would require regulated entities to furnish the information collected in the VFP Forms using tags in XBRL-Related Documents.²³ The specified financial and operational information already is required to be collected and filed with the Commission pursuant to existing periodic and annual report requirements. Under this NOPR proposal, the information would need to be filed with the Commission using XBRL. The Commission anticipates that the revisions to the filing process for the VFP Forms, once effective, would reduce ongoing regulatory burdens.²⁴ The Commission will submit the proposed reporting requirements to OMB for its review and approval under section 3507(d) of the Paperwork Reduction Act.²⁵

²³ XBRL-Related Documents for purposes of this NOPR encompasses documents, code, and any other file related to presenting information in XBRL that are part of the filing submission.

²⁴ Burden is the total time, effort, or financial resources expended by persons to generate, maintain, retain, or disclose or provide information to or for a Federal agency. For further explanation of what is included in the information collection burden, refer to 5 CFR 1320.3.

²⁵ 44 U.S.C. 3507(d).

25. The Commission solicits public comments regarding the accuracy of the burden estimates and any suggested methods for minimizing respondents' burden. Specifically, the Commission asks that any revised burden or cost estimates submitted by commenters be supported by sufficient detail to understand how the estimates are generated.

26. The Commission's regulations currently require certain regulated entities to file information in VFP Forms on an annual and quarterly basis.²⁶ We propose no substantive changes to the information collected in the VFP Forms, but rather to transition from the VFP system currently used to collect the information to an XBRL system.²⁷ Compliance with the proposed new filing process would be mandatory.

²⁶ See supra P 1 & n.1.

²⁷ While the NOPR does not change the information collected by any of the VFP Forms, the NOPR proposes to incorporate the energy storage-related data that the Commission required be reported under Order No. 784 into the new XBRL-based FERC Form Nos. 1, 1-F, and 3-Q electric. See infra P 18, n.15.

27. FERC Form No. 1 (OMB Control No. 1902-0021), FERC Form No. 2 (OMB Control No. 1902-0028), and FERC Form No. 6 (OMB Control No. 1902-0022) prescribe the information that major electric utilities, licensees, and others; major natural gas companies; and oil pipeline companies, respectively, must disclose annually about their finances and operations. FERC Form No. 1-F (OMB Control No. 1902-0029) and FERC Form No. 2-A (OMB Control No. 1902-0030) prescribe the information that nonmajor electric utilities and licensees; and nonmajor natural gas companies, respectively, must disclose annually about their finances and operations. FERC Form No. 3-Q (OMB Control No. 1902-0205) prescribes information that electric utilities, licensees, and natural gas companies must disclose quarterly about their finances and operations. FERC Form No. 6-Q (OMB Control No. 1902-0206) prescribes information that oil pipeline companies must disclose quarterly about their finances and operations. FERC Form No. 714 (OMB Control No. 1902-0140) prescribes information that certain electric transmitting utilities operating balancing authority areas or planning areas are required to file annually. FERC Form No. 60 (OMB Control No. 1902-0215) prescribes information that centralized service companies must disclose annually about their finances and operations.

28. The compliance burden estimates for the proposed revisions to the filing process for the VFP Forms are based on several assumptions and unique assessments for each form. However, all regulated entities required to submit the VFP Forms would have to map the reporting information to the Commission's standard XBRL taxonomy and create a final submission file(s). Based on discussions with other federal agencies, subject matter experts in XBRL data collection and the VFP Forms, and entities that have prepared their financial information in XBRL, we estimate that filers would incur the following average burden hours:

• XBRL Form Nos. 1, 1-F, 3-Q electric, 2, 2-A, 3-Q natural gas, 6, and 6-Q ²⁸

²⁸ The internal burden hours for tagging Form Nos. 1 and 3-Q electric are combined because the annual information reported in Form No. 1 is a compilation of the information reported in the prior three quarters in Form Nos. 3-Q electric in addition to the fourth quarter. Similarly, we have combined the number of internal burden hours for tagging the Form Nos. 2 and 3-Q natural gas and the Form Nos. 6 and 6-Q, respectively, because the annual Form Nos. 2 and 6 are based on a compilation of the information reported in the prior three quarters in Form Nos. 3-Q natural gas and 6-Q in addition to the fourth quarter.

○ Burden hours to tag in XBRL:

00 hours to prepare and submit the first filing using XBRL; and

14 hours for each subsequent filing in XBRL.

• Form No. 60

○ Burden hours to tag in XBRL:

20 hours to prepare and submit the first filing made in XBRL; and

3 hours for each subsequent filing.

• Form No. 714

○ Burden hours to tag in XBRL:

15 hours to prepare and submit the first filing made in XBRL; and

2 hours for each subsequent filing.

29. Public Reporting Burden: The Commission's burden estimates for the proposal in this NOPR are for a one-time implementation of the transition to XBRL proposed in this NOPR, and an ongoing estimate for maintenance of the XBRL reporting system. The following estimates of reporting burden are related only to this NOPR and anticipate the costs to filers for compliance with the Commission's proposal in this NOPR.

RM19-12-000 NOPR
[One-time implementation burden]
Requirement | Number of respondents | Annual number of responses per respondent | Total number of responses | Average burden & cost per response ²⁹ | Total annual burden hours & cost ³⁰ | Annual cost per respondent ($)
| (1) | (2) | (1) * (2) = (3) | (4) | (3) * (4) = (5) | (5) ÷ (1)
Form No. 1 | 207 | 1 | 207 | 100 hrs.; $6,931 | 20,700 hrs.; $1,434,717 | $6,931.
Form No. 1-F | 5 | 1 | 5 | 100 hrs.; $6,931 | 500 hrs.; $34,655 | $6,931.
Form No. 3-Q electric | 212 | 3 | 636 | No Change ³¹ | No Change | No Change.
Form No. 2 | 92 | 1 | 92 | 100 hrs.; $6,931 | 9,200 hrs.; $637,652 | $6,931.
Form No. 2-A | 73 | 1 | 73 | 100 hrs.; $6,931 | 7,300 hrs.; $505,963 | $6,931.
Form No. 3-Q natural gas | 165 | 3 | 495 | No Change | No Change | No Change.
Form No. 6 | 244 | 1 | 244 | 100 hrs.; $6,931 | 24,400 hrs.; $1,691,164 | $6,931.
Form No. 6-Q | 244 | 3 | 732 | No Change | No Change | No Change.
Form No. 60 | 39 | 1 | 39 | 20 hrs.; $1,386.20 | 780 hrs.; $54,062 | $1,386.20.
Form No. 714 | 176 | 1 | 176 | 15 hrs.; $1,039.65 | 2,640 hrs.; $182,977 | $1,039.65.
Total for Implementation Burden |  |  | ³² 836 |  | 65,520 hrs.; $4,541,190 |

RM19-12-000 NOPR
[Annual ongoing system maintenance burden]
Requirement | Number of respondents | Annual number of responses per respondent | Total number of responses | Average burden & cost per response ³³ | Total annual burden hours & cost ³⁴ | Annual cost per respondent ($)
| (1) | (2) | (1) * (2) = (3) | (4) | (3) * (4) = (5) | (5) ÷ (1)
Form No. 1 | 207 | 1 | 207 | 14 hrs.; $970.34 | 2,898 hrs.; $200,860 | $970.34.
Form No. 1-F | 5 | 1 | 5 | 14 hrs.; $970.34 | 70 hrs.; $4,852 | $970.34.
Form No. 3-Q electric | 212 | 3 | 636 | No Change | No Change | No Change.
Form No. 2 | 92 | 1 | 92 | 14 hrs.; $970.34 | 1,288 hrs.; $89,271 | $970.34.
Form No. 2-A | 73 | 1 | 73 | 14 hrs.; $970.34 | 1,022 hrs.; $70,835 | $970.34.
Form No. 3-Q natural gas | 165 | 3 | 495 | No Change | No Change | No Change.
Form No. 6 | 244 | 1 | 244 | 14 hrs.; $970.34 | 3,416 hrs.; $236,763 | $970.34.
Form No. 6-Q | 244 | 3 | 732 | No Change | No Change | No Change.
Form No. 60 | 39 | 1 | 39 | 3 hrs.; $207.93 | 117 hrs.; $8,109 | $207.93.
Form No. 714 | 176 | 1 | 176 | 2 hrs.; $138.62 | 352 hrs.; $24,397 | $138.62.
Total for Ongoing Burden |  |  | ³⁵ 836 |  | 9,163 hrs.; $635,087. |

The Commission's estimates for the hourly wage figure (as related to the implementation and ongoing burden estimate) are based on the Bureau of Labor Statistics data (for the Utilities sector, at http://www.bls.gov/oes/current/naics2_22.htm, plus benefits information at http://www.bls.gov/news.release/ecec.nr0.htm). The salaries (plus benefits) for the eight occupational categories are:

²⁹ The average burden and cost per response is calculated using the hourly wage figures described in detail below.

³⁰ Every figure in this column is rounded to the nearest dollar.

³¹ There is no change to the internal burden hours for filing Form Nos. 3-Q electric, 3-Q natural gas, and 6-Q because the burden hours associated with these quarterly forms are included in the burden hours calculated for filing Form Nos. 1, 2, and 6.

³² This total number of responses does not include the responses for Form Nos. 3-Q electric, 3-Q natural gas, or 6-Q because the burden hours for tagging Form Nos. 1, 2, and 6 include the number of hours required to tag the quarterly responses. The quarterly filings are generally a subset of the annual filings.

³³ The average burden and cost per response is calculated using the hourly wage figures described in detail below.

³⁴ Every figure in this column is rounded to the nearest dollar.

³⁵ This total number of responses does not include the responses for Form Nos. 3-Q electric, 3-Q natural gas, or 6-Q because the burden hours for tagging Form Nos. 1, 2, and 6 include the number of hours required to tag the quarterly responses. The quarterly filings are generally a subset of the annual filings.

• Management (Occupation Code: 11-0000): $94.28/hour

• Information Security Analysts (Occupation Code: 15-1122): $60.90/hour

• Legal (Occupation Code: 23-0000): $143.68/hour

• Office and Administrative Support: $41.34/hour

• Computer and Information Systems Manager (Occupation Code: 11-3021): $96.51

• Management Analyst (Occupation Code: 13-1111): $63.32/hour

• Computer and Information Systems Analyst (Occupation Code: 15-1120): $66.47/hour

• Accountants and Auditors (Occupation Code: 13-2011): $56.59/hour

The average hourly cost for all eight of these categories is calculated assuming the following weights in correspondence to effort applied by each respective occupation:

• Management (Occupation Code: 11-0000): 5%

• Information Security Analysts (Occupation Code: 15-1122): 5%

• Legal (Occupation Code: 23-0000): 5%

• Office and Administrative Support: 10%

• Computer and Information Systems Manager (Occupation Code: 11-3021): 10%

• Management Analyst (Occupation Code: 13-1111): 5%

• Computer and Information Systems Analyst (Occupation Code: 15-1120): 35%

• Accountants and Auditors (Occupation Code: 13-2011): 25%

Overall, the average hourly cost uses the following calculation with all seven occupations and their respective weights included:

[($94.28/hour * 0.05) + ($60.90/hour * 0.05) + ($143.68/hour * 0.05) + ($41.34/hour * 0.1) + ($96.51/hour * 0.1) + ($63.32/hour * 0.05) + ($66.47/hour * 0.35) + ($56.59/hour * 0.25)] ÷ 8 = $69.31.

The number of responses related to both the implementation and ongoing burden is 836 responses.³⁶

³⁶ This total number of responses does not include the responses for Form Nos. 3-Q electric, 3-Q natural gas, or 6-Q because the burden hours for tagging Form Nos. 1, 2, and 6 include the number of hours required to tag the quarterly responses. The quarterly filings are generally a subset of the annual filings.

The implementation burden will be 65,520 hours for Year 1.

The ongoing burden in Years 2 and 3 will be 9,163 hours per year.

The responses and burden for Years 1-3 for both the implementation and ongoing burden are as follows:

836 responses/year; [(65,520 hours for Year 1) + (9,163 hours for Year 2) + (9,163 hours for Year 3)] ÷ 3 years = 27,949 hours/year (annual average for Years 1-3).

30. Out-of-pocket expenses: We estimate that filers would incur the following out-of-pocket expenses for software, consulting, or filing agent services used in the Years 2 and 3 (following the first year of implementation):

• XBRL Form Nos. 1, 1-F, 3-Q electric, 2, 2-A, 3-Q natural gas, 6, and 6-Q:

○ Out-of-pocket cost for software and filing agent services: $4,912 for each filing.

○ Total out-of-pocket cost for software and filing agent services per year: (621 respondents) * ($4,912 for each filing) = $3,050,352.

• Form No. 60:

○ Out-of-pocket cost for software and filing agent services: $982 for each filing.

○ Total out-of-pocket cost for software and filing agent services per year: (39 respondents) * ($982 for each filing) = $38,298.

• Form No. 714:

○ Out-of-pocket cost for software and filing agent services: $737 for each filing.

○ Total out-of-pocket cost for software and filing agent services per year: (176 respondents) * ($737 for each filing) = $129,712.

31. Based on the number of filers we expect to be subject to the proposed requirements, the number of filings that we expect those filers to make and the burden hours and out-of-pocket cost estimates described, we estimate that the average yearly burden of the proposed requirements over the first three years would be 27,949 internal hours per year and $2,145,575 in out-of-pocket expenses per year. This would be incurred by an average of 836 filers for an average yearly burden per filer of 33.4 internal hours and $2,566 in out-of-pocket expenses over Years 1-3.

Titles: Form No. 1 (Annual Report of Major Electric Utilities, Licensees and Others); Form No. 1-F (Annual Report of Nonmajor Public Utilities and Licensees); Form No. 3-Q electric (Quarterly Financial Report of Electric Utilities, Licensees and Natural Gas Companies); Form No. 2 (Annual Report of Nonmajor Natural Gas Companies); Form No. 3-Q gas (Quarterly Financial Report of Electric Utilities, Licensees and Natural Gas Companies); Form No. 6 (Annual Report of Oil Pipeline Companies); Form No. 6-Q (Quarterly Financial Report of Oil Pipeline Companies); Form No. 60 (Annual Reports of Centralized Service Companies); Form No. 714 (Annual Electric Balancing Authority Area and Planning Area Report).

Action: Revision of Currently Approved Collections of Information.

OMB Control Nos.: 1902-0021 (Form No. 1), 1902-0029 (Form No. 1-F), 1902-0028 (Form No. 2), 1902-0205 (Form No. 3-Q), 1902-0022 (Form No. 6), 1902-0206 (Form No. 6-Q), 1902-0215 (Form No. 60), and 1902-0140 (Form No. 714).

Respondents: Public utilities, licensees, interstate natural gas companies, oil pipeline companies, centralized service companies, Balancing Authorities, or other for profit and/or not for profit institutions.

Frequency of Responses: Annual or quarterly.

Necessity of the Information: The Commission requires that the information collected in Form Nos. 1, 1-F, 3-Q electric, 2, 2-A, 3-Q natural gas, 6, 6-Q, 60, and 714 be submitted in an updated electronic format that is compatible with current technology and ensures access to the information required to be collected.

Internal Review: The Commission has reviewed the reporting requirements related to the VFP Forms and made a determination that revising the filing process for the VFP Forms will ensure the Commission has the necessary data to carry out its statutory mandates, while reducing unnecessary burden on industry. The Commission has assured itself, by means of its internal review, that there is specific, objective support for the burden estimate associated with the information requirements.

32. Interested persons may obtain information on the reporting requirements by contacting the following: Federal Energy Regulatory Commission, 888 First Street NE, Washington, DC 20426 [Attention: Ellen Brown, Office of the Executive Director, email: DataClearance@ferc.gov, phone: (202) 502-8663, fax: (202) 273-0873]. Please send comments concerning the collection of information and the associated burden estimates to the Commission, and to the Office of Management and Budget, Office of Information and Regulatory Affairs, 725 17th Street NW, Washington, DC 20503 [Attention: Desk Officer for the Federal Energy Regulatory Commission, phone: (202) 395-4638, fax: (202) 395-7285]. For security reasons, comments to OMB should be submitted by email to: oira_submission@omb.eop.gov. Comments submitted to OMB should include Docket Number RM19-2-000 and any related information collection and its respective OMB Control Number [Form No. 1 (1902-0021), Form No. 1-F (1902-0029), Form No. 2 (1902-0028), Form No. 3-Q (1902-0205), Form No. 6 (1902-0022), Form No. 6-Q (1902-0206), Form No. 60 (1902-0215), and Form No. 714 (1902-0140)].

IV. Environmental Analysis

33. The Commission is required to prepare an Environmental Assessment or an Environmental Impact Statement for any action that may have a significant adverse effect on the human environment.³⁷ The Commission has categorically excluded certain actions from this requirement as not having a significant effect on the human environment.³⁸ The actions proposed here fall within the categorical exclusions in the Commission's regulations for rules that are clarifying, corrective, or procedural, or do not substantially change the effect of legislation or regulations being amended and for rules regarding information gathering, analysis, and dissemination.³⁹ In addition, the proposed rule is categorically excluded as an electric rate filing submitted by a public utility under sections 205 and 206 of the FPA ⁴⁰ and as a rule regarding sales, exchange, and transportation of natural gas that require no construction of facilities.⁴¹ Accordingly, no environmental assessment is necessary and none has been prepared in this NOPR.

³⁷ Regulations Implementing the National Environmental Policy Act of 1969, Order No. 486, FERC Stats. & Regs, ¶ 30,783 (1987) (cross-referenced at 41 FERC ¶ 61,284).

³⁸ 18 CFR 380.4.

³⁹ 18 CFR 380.4(a)(2)(ii) and 380.4(a)(5).

⁴⁰ 18 CFR 380.4(a)(15).

⁴¹ 18 CFR 380.4(a).

V. Regulatory Flexibility Act

34. The Regulatory Flexibility Act of 1980 (RFA) ⁴² generally requires a description and analysis of proposed rules that will have significant economic impact on a substantial number of small entities. The Commission is not required to perform this sort of analysis if the proposed activities within the NOPR would not have such an effect.

⁴² 5 U.S.C. 601-612.

35. Approximately 213 electric utility, licensees, and other companies are required to file the Form Nos. 1 and 3-Q electric, or Form No. 1-F, and therefore are subject to the requirements adopted by this rule. Of those filers, the Commission estimates approximately 40 will be small as defined by SBA regulations.⁴³ Approximately 244 oil pipeline companies are required to file the Form Nos. 6 and 6-Q, and therefore are subject to the requirements proposed in this NOPR. Of those oil pipeline filers, the Commission estimates approximately 23% will be small, as currently defined for “All Other Pipeline Transportation” companies (NAICS code 486990) as a company that, in combination with its affiliates, has total annual receipts of $37.5 million or less. Approximately 165 interstate natural gas pipelines are required to file the Form Nos. 2 and 3-Q natural gas, or Form No. 2-A, and therefore are subject to the requirements adopted by this rule. Most of the natural gas pipelines regulated by the Commission do not fall within the RFA's definition of a small entity, which is currently defined for natural gas pipelines (NAICS code 486210) as a company that, in combination with its affiliates, has total annual receipts of $27.5 million or less. For the year 2018, eleven companies not affiliated with larger companies had annual revenues in combination with its affiliates of $27.5 million or less and therefore could be considered a small entity under the RFA. This represents about seven percent of the total potential respondents that may have a significant burden imposed on them.

⁴³ The small business size standards are provided in 13 CFR 121.201. In 13 CFR 121.201, the SBA uses the North American Industry Classification System (NAICS) codes.

36. Approximately 39 holding companies currently file Form No. 60. Commission staff estimates that these companies are not likely to fall within the RFA's definition of small ⁴⁴ because holding companies of public utilities or natural gas pipelines are generally not small businesses. Finally, there are approximately 176 balancing authorities (NAICS code 221121) that are required to file Form No. 714. Of those balancing authorities, 33 percent (or approximately 58) are estimated to fall within the RFA's definition of small.

⁴⁴ 5 U.S.C. 601(3), citing to section 3 of the Small Business Act, 15 U.S.C. 632. Section 3 of the Small Business Act defines a “small business concern” as a business that is independently owned and operated and that is not dominant in its field of operation. 15 U.S.C. 632. The Small Business Size Standards component of the NAICS defines, for example, a small electric utility as one that, including its affiliates, is primarily engaged in the generation, transmission, and/or distribution of electric energy for sale and whose quantity of employees falls under a certain threshold dependent on the type of utility and its applicable NAICS code.

37. Accordingly, the Commission finds that the revised requirements set forth in this NOPR will not have a significant economic impact on a substantial number of small entities, and no regulatory flexibility analysis is required.

VI. Comment Procedures

38. The Commission invites interested persons to submit comments on the matters and issues proposed in this NOPR to be adopted, including any related matters or alternative proposals that commenters may wish to discuss. Comments are due March 6, 2019. Comments must refer to Docket No. RM19-12-000, and must include the commenter's name, the organization they represent, if applicable, and their address in their comments.

39. The Commission encourages comments to be filed electronically via the eFiling link on the Commission's website at http://www.ferc.gov. The Commission accepts most standard word processing formats. Documents created electronically using word processing software should be filed in native applications or print-to-PDF format and not in a scanned format. Commenters filing electronically do not need to make a paper filing.

40. Commenters that are not able to file comments electronically must send an original of their comments to: Federal Energy Regulatory Commission, Secretary of the Commission, 888 First Street NE, Washington, DC 20426.

41. All comments will be placed in the Commission's public files and may be viewed, printed, or downloaded remotely as described in the Document Availability section below. Commenters on this proposal are not required to serve copies of their comments on other commenters.

VII. Document Availability

42. In addition to publishing the full text of this document in the Federal Register, the Commission provides all interested persons an opportunity to view and/or print the contents of this document via the internet through the Commission's Home Page (http://www.ferc.gov) and in the Commission's Public Reference Room during normal business hours (8:30 a.m. to 5:00 p.m. Eastern time) at 888 First Street NE, Room 2A, Washington, DC 20426.

43. From the Commission's Home Page on the internet, this information is available on eLibrary. The full text of this document is available on eLibrary in PDF and Microsoft Word format for viewing, printing, and/or downloading. To access this document in eLibrary, type the docket number excluding the last three digits of this document in the docket number field.

44. User assistance is available for eLibrary and the Commission's website during normal business hours from the Commission's Online Support at 202-502-6652 (toll free at 1-866-208-3676) or email at ferconlinesupport@ferc.gov, or the Public Reference Room at (202) 502-8371, TTY (202) 502-8659. Email the Public Reference Room at public.referenceroom@ferc.gov.

List of Subjects

18 CFR Part 141

Electric power, Reporting and recordkeeping requirements.

18 CFR Part 385

Electric power, Reporting and recordkeeping requirements.

By direction of the Commission.
Issued: January 17, 2019.
Nathaniel J. Davis, Sr.,
Deputy Secretary.

In consideration of the foregoing, the Commission proposes to amend parts 141 and 385 of chapter I, title 18 of the Code of Federal Regulations, as follows.

PART 141—STATEMENTS and REPORTS (SCHEDULES)

1. The authority citation for part 141 continues to read as follows:

Authority: 15 U.S.C. 79; 15 U.S.C. 717-717z; 16 U.S.C. 791a-828c, 2601-2645; 31 U.S.C. 9701; 42 U.S.C. 7101-7352.2.

2. Amend § 141.2 by revising paragraph (b)(1)(i) to read as follows:

§ 141.2 FERC Form No. 1-F, Annual report for Nonmajor public utilities and licensees.

* * * * *

(b) * * *

(1) * * *

(i) Generally. Each Nonmajor and each Nonoperating (formerly designated as Nonmajor) public utility and licensee as defined in Part 101 of this chapter, shall prepare and file with the Commission FERC Form No. 1-F as prescribed in § 385.2011 of this chapter and as indicated in the General Instructions set out in this form, and must be properly completed and verified. Filing on electronic media pursuant to § 385.2011 of this chapter is required.

* * * * *

PART 385—RULES OF PRACTICE AND PROCEDURE

3. The authority citation for part 385 continues to read as follows:

Authority: 5 U.S.C. 551-557; 15 U.S.C. 717-717w, 3301-3432; 16 U.S.C. 791a-825v, 2601-2645; 28 U.S.C. 2461; 31 U.S.C. 3701, 9701; 42 U.S.C. 7101-7352, 16441, 16451-16463; 49 U.S.C. 60502; 49 App. U.S.C. 1-85 (1988); 28 U.S.C. 2461 note (1990); 28 U.S.C. 2461 note (2015).

4. Amend § 385.2011 by revising paragraphs (a)(8) and (c)(3) to read as follows:

§ 385.2011 Procedures for filing on electronic media (Rule 2011).

* * * * *

(a) * * *

(8) FERC Form No. 1-F, Annual report for Nonmajor public utilities and licensees.

* * * * *

(c) * * *

(3) With the exception of the FERC Form Nos. 1, 1-F, 2, 2-A, 6, 60, and 714, the electronic media must be accompanied by the traditional prescribed number of paper copies.

* * * * *

[FR Doc. 2019-00460 Filed 2-1-19; 8:45 am]

BILLING CODE 6717-01-P